DEPARTMENT OF COMMERCE

National Oceanic and Atmospheric Administration

RIN 0648-XG437

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Ecosystem and Ocean Planning (EOP) Committee will hold a meeting.

DATES: The meeting will be held on Wednesday, September 12, 2018, from 10 a.m. to 4:30 p.m. See SUPPLEMENTARY INFORMATION for agenda details.

ADDRESSES: The meeting will take place at the Royal Sonesta Harbor Court, 550 Light Street, Baltimore, MD 21202; telephone (410) 234-0550.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of the meeting is for the EOP Committee to utilize the information from the approved Risk Assessment and identify scientific and management priorities, as outlined in the Ecosystem Approach to Fisheries Management (EAFM) guidance document. The Committee will consider different ways to evaluate the Risk Assessment to help identify priorities for Council consideration. In addition, the Committee may take up any other business as necessary. A detailed agenda and any pertinent background documents will be made available on the Council's website (www.mafmc.org) prior to the meeting.

Special Accommodations

The meeting is physically accessible to people with disabilities. Requests for sign language interpretation or other auxiliary aid should be directed to M. Jan Saunders, (302) 526-5251, at least 5 days prior to the meeting date.

Dated: August 22, 2018.
Tracey L. Thompson,
Acting Deputy Director, Office of Sustainable Fisheries, National Marine Fisheries Service.

[FR Doc. 2018-18474 Filed 8-24-18; 8:45 am]

BILLING CODE 3510-22-P